FEDERAL ELECTION COMMISSION

Sunshine Act Notices

DATE & TIME: Friday, December 14, 2007, at 1 p.m.

PLACE: 999 E. Street, NW., Washington, DC. (Ninth Floor)

STATUS: This meeting will be open to the public.

Items To Be Discussed

Correction and Approval of Minutes.

Election of Officers.

Future Meeting Dates.

Draft Advisory Opinion 2007-27: ActBlue by Jonathan Zucker, Esq.

Draft Advisory Opinion 2007-28: Representatives Kevin McCarthy and Devin Nunes, by Charles Bell, Jr., Esq. and Ashlee Titus, Esq.

Draft Advisory Opinion 2007-31: John Edwards for President, by Lora Haggard, CFO.

Draft Advisory Opinion 2007-34: Representative Jesse L. Jackson, Jr.

Electioneering Communications Explanation and Justification.

Management and Administrative Matters.

DATE & TIME: Tuesday, December 18, 2007, 10 a.m.

PLACE: 999 E Street, NW., Washington, DC.

This meeting will be closed to the public.

Items To Be Discussed

Compliance matters pursuant to 2 U.S.C. 437g.

Audits conducted pursuant to 2 U.S.C. 437g, 438(b), and Title 26, U.S.C.

Matters concerning participation in civil actions or proceedings or arbitration.

Internal personnel rules and procedures or matters affecting a particular employee.

PERSON TO CONTACT FOR INFORMATION: Mr. Robert Biersack, Press Officer, Telephone: (202) 694-1220.

Mary W. Dove,
Secretary of the Commission.

[FR Doc. 07-6011 Filed 12-6-07; 2:50 pm]

BILLING CODE 6715-01-M